FEDERAL COMMUNICATIONS COMMISSION

[CG Docket Nos. 03-123 and 10-51; DA 23-289; FRS 137191]

Comment Sought on GlobalVRS Request for Exogenous VRS DeafBlind Costs

AGENCY: Federal Communications Commission.

ACTION: Notice and request for comment.

SUMMARY: In this document, the Federal Communications Commission (Commission) seeks comment on the petition of ASL Services Holdings, LLC dba GlobalVRS (GlobalVRS) for exogenous cost reimbursement for the provision of Video Relay Service (VRS) to people who are deafblind. Specifically, GlobalVRS seeks reimbursement from the Telecommunications Relay Services (TRS) Fund for costs associated with the development of its call distribution platform, outreach, and other costs associated with its provision of VRS to individuals who are deafblind.

DATES: Comments on the Petition must be filed on or before May 9, 2023. Reply comments must be filed on or before May 19, 2023.

ADDRESSES: Comments and reply comments may be filed, identified by CG Docket Nos. 03-123 and 10-51, using the Commission's Electronic Comment Filing System (ECFS).

• Electronic Filers: Comments and reply comments may be filed electronically using the internet by accessing the ECFS: https://www.fcc.gov/ecfs/filings/standard.

• Paper Filers:

○ Parties who choose to file by paper must file an original and one copy of each filing. If more than one docket or rulemaking number appears in the caption of this proceeding, filers must submit two additional copies for each additional docket or rulemaking number.

○ Filings can be sent by hand or messenger delivery, by commercial overnight courier, or by first-class or overnight U.S. Postal Service mail. All filings must be addressed to the Commission's Secretary, Office of the Secretary, Federal Communications Commission.

○ Currently, the Commission does not accept any hand delivered or messenger delivered filings as a temporary measure taken to help protect the health and safety of individuals, and to mitigate the transmission of COVID-19. In the event that the Commission announces the lifting of COVID-19 restrictions, a filing window will be opened at the Commission's office located at 9050 Junction Drive, Annapolis Junction, MD 20701.

○ Commercial overnight mail (other than U.S. Postal Service Express Mail and Priority Mail) must be sent to 9050 Junction Drive, Annapolis Junction, MD 20701.

○ U.S. Postal Service first-class, Express, and Priority mail may be addressed to 45 L Street NE, Washington, DC 20554.

○ During the time the Commission's building is closed to the general public and until further notice, if more than one docket or rulemaking number appears in the caption of a proceeding, paper filers need not submit two additional copies for each additional docket or rulemaking number; an original and one copy are sufficient.

FOR FURTHER INFORMATION CONTACT: Ross Slutsky, Consumer and Governmental Affairs Bureau, email: Ross.Slutsky@fcc.gov or Michael Scott, Consumer and Governmental Affairs Bureau at (202) 418-1264 or email: Michael.Scott@fcc.gov.

SUPPLEMENTARY INFORMATION: This is a summary of the Commission's Public Notice, DA 23-289, in CG Docket Nos. 03-123 and 10-51, released on April 4, 2023. The full text of the Petition can be accessed online via the Commission's Electronic Comment Filing System at https://www.fcc.gov/ecfs/document/10321175009780/1. To request materials in accessible formats for people with disabilities (Braille, large print, electronic files, audio format), send an email to fcc504@fcc.gov or call the Consumer and Governmental Affairs Bureau at: (202) 418-0530.

Ex Parte Rules. This proceeding shall be treated as a “permit-but-disclose” proceeding in accordance with the Commission's ex parte rules. 47 CFR 1.1200 et seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Synopsis

In its 2017 VRS Compensation Order, published at 82 FR 39673, August 22, 2017, the Commission authorized VRS providers to request exogenous cost recovery from the Interstate TRS Fund. In its Petition, GlobalVRS seeks reimbursement from the TRSFund for costs associated with the development of its call distribution platform, outreach, operations, and other costs associated with its provision of VRS to individuals who are deafblind.

Federal Communications Commission.
Eliot Greenwald,
Deputy Chief, Disability Rights Office, Consumer and Governmental Affairs Bureau.

[FR Doc. 2023-08638 Filed 4-24-23; 8:45 am]

BILLING CODE 6712-01-P